DEPARTMENT OF AGRICULTURE

Animal and Plant Health Inspection Service

7 CFR Part 319

[Docket No. APHIS-2017-0074]

Supplemental Requirements for Importation of Fresh Citrus From Colombia Into the United States

AGENCY: Animal and Plant Health Inspection Service, USDA.

ACTION: Notification of supplemental requirements; request for comments.

SUMMARY: We are notifying the public of our decision to supplement our requirements governing the importation of fresh sweet orange, grapefruit, mandarin, clementine, and tangerine fruit from Colombia into the United States and are requesting public comment on these changes. We have determined that, in order to mitigate the current pest risks posed by the importation of these commodities from Colombia into the United States, it is necessary to supplement the phytosanitary requirements now in place with additional requirements. This action will help to protect the United States against plant pests while allowing the resumption of imports of fresh sweet orange, grapefruit, mandarin, clementine, and tangerine fruit from Colombia, which were suspended in 2016 due to the discovery of new plant pests in South America.

DATES: These requirements will be authorized for use on fresh sweet orange, grapefruit, mandarin, clementine, and tangerine fruit from Colombia beginning February 6, 2018. We will consider all comments that we receive on or before April 9, 2018.

ADDRESSES: You may submit comments by either of the following methods:

• Federal eRulemaking Portal: Go to http://www.regulations.gov/#!docketDetail;D=APHIS-2017-0074.

• Postal Mail/Commercial Delivery: Send your comment to Docket No. APHIS-2017-0074, Regulatory Analysis and Development, PPD, APHIS, Station 3A-03.8, 4700 River Road Unit 118, Riverdale, MD 20737-1238.

Supporting documents and any comments we receive on this docket may be viewed at http://www.regulations.gov/#!docketDetail;D=APHIS-2017-0074 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Claudia Ferguson, Senior Regulatory Policy Specialist, Regulatory Coordination and Compliance, PPQ, APHIS, 4700 River Road Unit 133, Riverdale, MD 20737-1236; (301) 851-2352.

SUPPLEMENTARY INFORMATION:

Under the regulations in “Subpart-Fruits and Vegetables” (7 CFR 319.56-1 through 319.56-81, referred to below as the regulations), the Animal and Plant Health Inspection Service (APHIS) of the United States Department of Agriculture (USDA) prohibits or restricts the importation of fruits and vegetables into the United States from certain parts of the world in an effort to prevent plant pests from being introduced into and spread within the United States.

Section 319.56-3, which includes general import requirements for fruits and vegetables, authorizes the importation of fresh sweet orange (Citrus sinensis (L.), grapefruit (Citrus paradisi MacFad), mandarin (Citrus reticulata Blanco), clementine (Citrus clementina Hort. Ex Tanaka), and tangerine (Citrus tangerine Tanaka) fruit from Colombia into the United States. The general import requirements include an import permit issued by APHIS and inspection of the fruit by APHIS officials at the port of first arrival. Additionally, as a condition of entry,¹ APHIS requires consignments of fresh citrus fruit from Colombia to undergo cold treatment in accordance with 7 CFR part 305.

¹ Condition of entry requirements are listed in the APHIS Fruits and Vegetables Import Requirements (FAVIR) database: https://epermits.aphis.usda.gov/manual/index.cfm?action=cirReportP&PERMITTED_ID=5735.

In March 1963, USDA authorized imports of citrus fruit into the United States from Colombia. In 1995, Colombia stopped shipping commercial consignments of citrus fruit to the United States because of decreased citrus production and increased domestic citrus consumption. Twenty years later, in December 2015, Colombia announced their intention to resume exporting commercial consignments of citrus to the United States. That same month, APHIS notified the national plant protection organization (NPPO) of Colombia that it was temporarily suspending its authorization for imports of sweet oranges, tangerines, grapefruit, clementines, and mandarins from Colombia and cancelling permits until further notice. The NPPO of Colombia acknowledged the suspension and no shipments of citrus from Colombia entered the United States. We suspended imports because we noted the emergence of new citrus pests in South America since Colombia initially received approval to export citrus fruit to the United States. In order to protect the United States from plant pests following the pathway of citrus imported from Colombia, we decided to assess the risk potential of these new citrus pests and develop mitigation requirements before considering a request from the NPPO of Colombia on whether to lift the temporary suspension on commercial shipments.

To determine the current pest risk potential, we prepared a pest risk assessment (PRA), followed by a commodity import evaluation document (CIED) that details risk mitigation measures. Copies of the PRA and the CIED may be obtained from the person listed under FOR FURTHER INFORMATION CONTACT or viewed on the Regulations.gov website (see ADDRESSES for instructions for accessing Regulations.gov).

The PRA, titled “Importation of Fresh Citrus Fruit, including Sweet Oranges (Citrus sinensis (L.), Grapefruit (C. paradisi Macfad.), Mandarin (C. reticulata Blanco), Clementine (C. clementina Hort. Ex Tanaka), and Tangerine (C. tangerina Tanaka) from Colombia into the United States (October 2016),” evaluates the risks associated with the importation of fresh citrus fruit from Colombia into the United States. The CIED relies upon the findings of the PRA to establish phytosanitary risk management measures necessary to ensure the safe importation into the United States of fresh citrus fruit from Colombia.

Eleven pests that could follow the pathway of fresh citrus fruit imported from Colombia met the threshold for unacceptable consequences of introduction into the United States:

• Brevipalpus obovatus Donnadieu, privet mite, ornamental flat mite;

• Brevipalpus phoenicis (Geijskes), red and black flat mite;

• Schizotetranychus hindustanicus (Hirst), Hindustan citrus mite;

• Neosilba pendula Bezzi, cassava shoot fly, lance fly;

• Neosilba zadolicha (McAlphine and Steyskal), lonchaeid fly, lance fly;

• Anastrepha fraterculus (Wiedemann), South American fruit fly;

• Anastrepha serpentina (Wiedemann), sapote fruit fly;

• Anastrepha striata Schiner, guava fruit fly;

• Ceratitis capitata (Wiedemann), Mediterranean fruit fly, Medfly;

• Gymnandrosoma aurantianum (Lima), citrus fruit borer; and

• Citrus leprosis virus, CILV.

Our assessment indicated that the citrus fruit borer, as well as the South American, guava, and Mediterranean fruit flies, have a high likelihood of following the pathway of citrus fruit from Colombia. All other quarantine pests on the list were determined to have a medium likelihood of doing so.

We determined from the PRA that the import requirements originally established for citrus fruit from Colombia were no longer sufficient to mitigate the risk posed by these quarantine pests. These conditions were the general import requirements enumerated in § 319.56-3 and two of the five designated phytosanitary measures listed under § 319.56-4(b), specifically, that citrus fruit be treated in accordance with 7 CFR part 305 and inspected by APHIS officials at the port of first arrival.

Under § 319.56-4(d) of the regulations, if we determine that one or more of the five designated phytosanitary measures is not sufficient to mitigate the risk posed by the fruits and vegetables that are currently authorized for importation into the United States under § 319.56-4, we will prohibit or further restrict importation of the fruit or vegetable and may also publish a document in the Federal Register advising the public of our finding. The document will specify the amended import requirements, provide an effective date for the change, and will invite public comment on the subject. We are publishing this notification of our decision to supplement the import requirements for Colombian citrus in accordance with this provision.

Based on our findings in the PRA, we are requiring the application of the additional pest risk management measures identified in the CIED in order for sweet oranges, tangerines, grapefruit, clementines, and mandarins to be eligible for importation from Colombia into the United States. These measures, discussed in further detail below, are: (1) Importation in commercial consignments only, (2) production of fruit only in places of production registered and approved by the NPPO, (3) effective fruit fly trapping programs in the places of production, and (4) standard packinghouse procedures. Furthermore, each commercial consignment must be accompanied by a phytosanitary certificate with an additional declaration issued by the NPPO of Colombia.

APHIS and the NPPO of Colombia have agreed to an operational workplan that details how the risk management measures listed in the CIED will be carried out, subject to APHIS' approval. APHIS will be directly involved with the NPPO in monitoring and auditing implementation of the operational workplan. The additional import requirements for fresh citrus from Colombia are described below.

Commercial Consignments

We are requiring that only commercial consignments of fresh sweet oranges, tangerines, grapefruit, clementines, and mandarins be accepted for export from Colombia into the United States. Produce grown commercially is less likely to be infested with plant pests than noncommercial consignments. Noncommercial consignments are more prone to infestations because the commodity is often ripe to overripe, could be of a variety with unknown susceptibility to pests, or is grown with little or no pest control. Commercial consignments, as defined in § 319.56-2 of the regulations, are consignments that an inspector identifies as having been imported for sale and distribution.

In addition, fresh sweet oranges, tangerines, grapefruit, clementines, and mandarins in commercial consignments for export from Colombia into the United States must be practically free of leaves, twigs and other plant parts, except for stems that are less than 1 inch long and attached to the fruit.

Production Site Requirements

We are also requiring that sweet oranges, tangerines, grapefruit, clementines, and mandarins intended for importation into the United States from Colombia be grown only in places of production that are registered with, and approved by, the NPPO of Colombia. APHIS reserves the right to conduct audits and inspect the places of production, as necessary.

Identity and origin of the fruit must be maintained from the grove, through the packing house, and through export of consignments to the United States. Registration makes it easier to trace consignments of fruit back to the place of production and to apply remedial measures or the removal of places of production from the import program in accordance with the operational workplan if quarantine pests are discovered in consignments destined for the United States.

In addition, we are requiring that plant litter and fallen fruit be removed from the places of production to reduce potential fruit fly, lonchaeid fly, and Lepidoptera host material. Plant litter and fallen fruit must not be included in field containers of fruit brought to the packinghouse to be packed for export to the United States.

We are also requiring that the NPPO of Colombia certify that the places of production growing sweet oranges, tangerines, grapefruit, clementines, and mandarins for export to the United States have effective fruit fly trapping programs approved by APHIS and that places of production follow pest control guidelines, when necessary, to reduce regulated pest populations. Personnel conducting the trapping and pest surveys must be hired, trained, and supervised by the NPPO of Colombia or be personnel authorized by the NPPO. Details of the trapping program will be included in the operational workplan.

To ensure that the trapping is being properly conducted, we are requiring that the NPPO of Colombia keep records of fruit fly detections for each trap and make the records available to APHIS upon request. The NPPO is required to maintain such records for at least 3 years. The NPPO of Colombia is also required to regularly visit and inspect places of production through the citrus exporting season, starting 30 days before harvest and continuing until the end of the shipping season, to ensure that growers and packers are following export protocols. If the NPPO of Colombia finds that a place of production is not complying with the requirements of the operational workplan agreed to between APHIS and the NPPO, no fruit from that place of production will be eligible for export to the United States until APHIS and the NPPO conduct an investigation and appropriate remedial actions have been implemented.

Packinghouse Requirements

Fresh sweet oranges, tangerines, grapefruit, clementines, and mandarins from Colombia intended for importation into the United States must be packed in a packinghouse registered with the NPPO of Colombia. Such registration facilitates traceback of a consignment of citrus to the packinghouse in which it was packed in the event that quarantine pests were discovered in the consignment at the port of first arrival into the United States.

We require the NPPO of Colombia to monitor and audit the harvesting system and ensure that during the time the packinghouse is in use for exporting fruit to the United States, the packinghouse must clearly segregate and identify fruit for export to the United States to prevent commingling with fruit for other markets.

At the packinghouse, we require that the fruit be washed and brushed and any damaged or diseased fruit culled. Many of the quarantine pests listed in the PRA have stages that are visible upon inspection or cause visible damage. Washing and brushing removes insects and mites from fruit, and culling removes fruit with visible signs of insect and mite damage, which reduces the risk that pests will follow the pathway of citrus fruit exported to the United States.

Post-Harvest Processing

We are requiring that fruit intended for export to the United States be packed within 24 hours of harvest in an enclosed packinghouse or maintained in cold storage. Fruit must be kept in cold storage or cold treatment while in transit until the fruit arrives in the United States.

In addition, the fruit must be inspected by the NPPO of Colombia or personnel authorized by the NPPO following post-harvest processing. A biometric sample, to be jointly determined by APHIS and the NPPO and listed in the operational workplan, will be visually inspected, and a portion of the fruit will be cut open to detect internal pests, such as fruit flies and Lepidoptera larvae. If a single mite (Brevipalpus obovatus, B. phoenicis or Schizotetranychus hindustanicus), any immature stage of Neosilba spp., or immature stage of Gymnandrosoma aurantianum is found during inspection, the entire lot of fruit will be prohibited from importation into the United States.

Fruit may be imported into the United States only if it is treated in accordance with 7 CFR part 305 with an approved quarantine treatment for Ceratitis capitata and Anastrepha spp.² listed in the Plant Protection and Quarantine Treatment Manual and monitored by an official authorized by APHIS. U.S. Customs and Border Protection personnel will inspect fruit consignments at the port of entry.

² Cold treatment schedule T107-a-1, “Treatment Schedules,” page 5-2-80. Prescribed treatments are also included in the FAVIR database (see footnote 1).

Monitoring and Oversight

We require the NPPO of Colombia to provide oversight for all program activities, including monitoring phytosanitary control programs, by reviewing them at least once a year, and by maintaining all forms and documents related to activities in places of production and packing houses in the export program. APHIS may monitor places of production, packinghouses, and records if necessary.

Phytosanitary Certificate

We require that fresh sweet oranges, tangerines, grapefruit, clementines, and mandarins imported into the United States from Colombia be accompanied by a phytosanitary certificate with an additional declaration issued by the NPPO of Colombia stating that the fruit in the consignment has been produced in accordance with the requirements of the operational workplan.

The amended import requirements are listed in the FAVIR database upon publication of this document. After the close of the comment period, we will publish a second document responding to any comments we receive. Should these comments raise substantive questions or concerns about the supplemental requirements for importation of fresh sweet oranges, tangerines, grapefruit, clementines, and mandarins into the United States from Colombia, we will reevaluate the requirements accordingly.

Authority: 7 U.S.C. 450, 7701-7772, and 7781-7786; 21 U.S.C. 136 and 136a; 7 CFR 2.22, 2.80, and 371.3.

Done in Washington, DC, this 1st day of February 2018.
Kevin Shea,
Administrator, Animal and Plant Health Inspection Service.

[FR Doc. 2018-02382 Filed 2-5-18; 8:45 am]

BILLING CODE 3410-34-P